DEPARTMENT OF AGRICULTURE

Submission for OMB Review; Comment Request

The Department of Agriculture has submitted the following information collection requirement(s) to Office of Management and Budget (OMB) for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; ways to minimize the burden of the collection of information on those who are to respond, including through the use of appropriate automated, electronic, mechanical, or other technological collection techniques or other forms of information technology.

Comments regarding this information collection received by September 12, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Utilities Service

Title: Accounting Requirements for RUS Electric and Telecommunications Borrowers.

OMB Control Number: 0572-0003.

Summary of Collection: The RUS Administrator, acting on behalf of the United States and the Secretary of Agriculture, is authorized and empowered by section 2a of the Rural Electrification Act of 1936 (RE Act), as amended to “make loans in the several States and Territories of the United States for rural electrification and for the purpose of furnishing and improving electric and telephone service in rural areas, as provided in this chapter, and for the purpose of assisting electric borrowers to implement demand side management, energy conservation programs, and on-grid and off-grid renewable energy systems.” In accordance with section 2b of the RE Act, the Administrator may “make, or cause to be made, studies, investigations, and reports regarding matters, including financial, technological, and regulatory matters, affecting the condition and programs of electric, telecommunications, and economic development in rural areas, and publish and disseminate information with respect to the matters.”

The Rural Utilities Service (RUS or the Agency) is a credit agency of the United States Department of Agriculture which makes loans (direct and guaranteed) to finance electric and telecommunications facilities in rural areas. The RUS Electric Program is a leader in lending to upgrade, expand, maintain, and replace the vast rural American electric infrastructure. Electric loans are fully amortized over a period approximately equal to the useful life of the facilities financed by the loan, not to exceed 35 years. Borrowers typically draw down on approved loan funds over a 3-to-4-year period. There are approximately 614 active electric borrowers. The RUS Telecommunications Program makes loans to furnish and improve telecommunications services and other telecommunications purposes in rural areas. The Agency lends directly to rural telecommunications companies and guarantees loans made by other lenders, such as the Federal Finance Bank (FFB). Loans are amortized over the useful life of the facilities financed by the loan, not to exceed 35 years. Borrowers typically draw down on approved loan funds over a 3-to-4-year period. There are approximately 638 active telecommunications borrowers.

RUS provides financing through long-term loans to rural electric and telecommunications utilities. These loans are secured by a mortgage agreement pledging as collateral for all the borrowers' assets, including its real and personal property as well as its income and revenues. The Agency also guarantees loans to facilitate the obtaining of financing for electric and telecommunications facilities from non-RUS sources. Guaranteed loans may be obtained from any legally organized lending agency qualified to make, hold, and service the loan. All policies and procedures of the Agency are applicable to a guaranteed loan.

Need and Use of the Information: This collection is primarily a recordkeeping requirement. 7 CFR parts 1767 and 1770 do not impose information collection requirements for reporting to a Federal agency. Rather, they establish basic accounting requirements for the recording of financial information that must be available to the management, investors, and lenders of any business enterprise. There are many important financial considerations for the retention and preservation of accounting records. One of the most important considerations to RUS is that documentation be available so that the borrower's records may be audited for proper disbursements of funds. 7 CFR parts 1767 and 1770 prescribe accounting requirements that are unique to RUS borrowers. The Agency is requiring borrowers to establish an index of records, which any prudent business should be maintaining. The hours of burden to maintain this index are directly related to those portions of the accounting system that are unique to the Agency.

Description of Respondents: Not-for-profit institutions.

Number of Respondents: 1,252.

Frequency of Responses: Recordkeeping; Reporting: On Occasion.

Total Burden Hours: 33,804.

Rural Utility Service

Title: High Energy Cost Grants Rural Communities.

OMB Control Number: 0572-0136.

Summary of Collection: The Rural Utilities Service (RUS), an agency delivering the United States Department of Agriculture's (USDA) Rural Development (RD) utilities programs, is authorized by the Rural Electrification Act of 1936 (RE Act) (7 U.S.C. 901 et seq.) as amended in November 2000, to create new grant and loan authority to assist rural communities with extremely high energy costs (Pub. L. 106-472). The amendment authorized the Secretary of USDA through RD to provide competitive grants for energy generation, transmission, or distribution facilities serving communities in which the average residential expenditure for home energy is at least 275 percent of the national average residential expenditure for home energy. The program is implemented under 7 CFR part 1709 and USDA grant regulations. Competitive grant applications are solicited through publication of a Notice of Funding Opportunity (NOFO) on Grants.gov.

Need and Use of the Information: Information is collected by RUS from applicants and grantees who may be one of the following: persons, States, political subdivisions of States and other entities organized under the laws of States, including for profit and non-profit corporations, associations, partnerships, limited liability partnerships (LLPs) cooperatives, trusts, sole proprietorships, State and local governments (including independent state agencies or units of State or local governments), Indian tribes, other Tribal entities and Alaska Native Corporations.

Description of Respondents: Not-for-profit institutions; Businesses or other for-profits.

Number of Respondents: 40.

Frequency of Responses: Recordkeeping: Reporting: On occasion.

Total Burden Hours: 826.

Rural Utilities Service

Title: 7 CFR part 1738 Rural Broadband Loans, Loan/Grant Combinations, and Loan Guarantees.

OMB Control Number: 0572-0154.

Summary of Collection: The Rural Utilities Service (RUS) is authorized by Title VI, Rural Broadband Access, of the Rural Electrification Act of 1936, as amended (RE Act), to provide loans, loan/grant combinations, and loan guarantees to fund the cost of construction, improvement, or acquisition of facilities and equipment for the provision of broadband service in eligible rural areas in the States and Territories of the United States. The regulation for this program, 7 CFR part 1738, prescribes the types of loans available, facilities financed, and eligible applicants, as well as minimum equity requirements to be considered for a loan. In addition, 7 CFR part 1738 outlines the process through which RUS will consider applicants under the priority consideration required in Title VI.

The term of the loan or loan/grant combination is based on the expected composite economic life based on the depreciation rates of the facilities financed. The term of the loan or loan/grant combination can be as high as 35 years. These loans are secured by a first lien on the borrower's broadband system. In the interest of protecting loan security and accomplishing the statutory objective of a sound program of rural broadband service access, Title VI of the RE Act further requires that RUS make or guarantee a loan only if there is reasonable assurance that the loan, together with all outstanding loans and obligations of the borrower, will be repaid in full within the time agreed; the information gathered in this collection will help RUS determine that reasonable assurance.

Need and Use of the Information: Lending entities who wish to participate in this program must submit an application and/or certain information to Rural Development (RD). This information will be used to determine an applicant's eligibility to borrow under the terms of the RE Act and that the applicant complies with statutory, regulatory, and administrative eligibility requirements for loan assistance. This information is also used by RUS to determine that the Government's security for loans is reasonably adequate and that the loans will be repaid within the time agreed.

Description of Respondents: Individuals or Households.

Number of Respondents: 90.

Frequency of Responses: Reporting: On occasion.

Total Burden Hours: 829.

Rural Utilities Service

Title: Technical Assistance and Training and Training for Innovative Regional Wastewater Treatment Solutions (TAT/RWTS) Pilot Grant Program.

OMB Control Number: 0572-0157.

Summary of Collection: Technical Assistance and Construction for Innovative Regional Wastewater Treatment Solutions (TAC-RWTS) grant program is a competitive grant program which the Rural Utilities Service (RUS) administers. The program is authorized pursuant to 5 U.S.C. 301; 7 U.S.C. 1989; 16 U.S.C. 1005; Division B, Title VII General Provisions, Section 783 of the Further Consolidated Appropriations Act, 2020 (Pub. L. 116-94); and Division BA, Title VII General Provisions, Section 771 of the Consolidated Appropriations Act, 2021 (Pub. L. 116-260). The program is implemented through 7 CFR part 1775, Technical Assistance Grants, and the provisions of this NOFO. Other Federal statutes and regulations are listed at 7 CFR 1775.8, Other Federal statutes.

Need and Use of the Information: The RUS National Office staff will use the information collected to determine applicant eligibility, project feasibility, and the applicant's ability to meet the grant and regulatory requirements. Based on funding availability for each Fiscal Year and the dollar amount requested by applicants, it may not be possible to fund all applications for the amount requested. If a particular application/project cannot be funded for the full amount, the applicant will be requested to submit revised documents to reflect the revision in the scope of the project based on the amount that can be awarded. Failure to collect proper information could result in improper determinations of eligibility, improper use of funds, or hindrances in making grants authorized by the TAC-RWTS program.

Description of Respondents: Not-for-profit institutions.

Number of Respondents: 9.

Frequency of Responses: Reporting: On occasion.

Total Burden Hours: 423.

Levi S. Harrell,
Departmental Information Collection Clearance Officer.

[FR Doc. 2024-18007 Filed 8-12-24; 8:45 am]

BILLING CODE 3410-15-P